Executive Order 14367 of December 15, 2025

Designating Fentanyl as a Weapon of Mass Destruction

By the authority vested in me as President by the Constitution and the laws of the United States of America, it is hereby ordered:

Section 1. Purpose and Policy. Illicit fentanyl is closer to a chemical weapon than a narcotic. Two milligrams, an almost undetectable trace amount equivalent to 10 to 15 grains of table salt, constitutes a lethal dose. Hundreds of thousands of Americans have died from fentanyl overdoses.

The manufacture and distribution of fentanyl, primarily performed by organized criminal networks, threatens our national security and fuels lawlessness in our hemisphere and at our borders. The production and sale of fentanyl by Foreign Terrorist Organizations and cartels fund these entities' operations—which include assassinations, terrorist acts, and insurgencies around the world—and allow these entities to erode our domestic security and the well-being of our Nation. The two cartels that are predominantly responsible for the distribution of fentanyl in the United States engage in armed conflict over territory and to protect their operations, resulting in large-scale violence and death that go beyond the immediate threat of fentanyl itself. Further, the potential for fentanyl to be weaponized for concentrated, large-scale terror attacks by organized adversaries is a serious threat to the United States.

As President of the United States, my highest duty is the defense of the country and its citizens. Accordingly, I hereby designate illicit fentanyl and its core precursor chemicals as Weapons of Mass Destruction (WMD).

Sec. 2. Implementation. The heads of relevant executive departments and agencies (agencies) shall take appropriate action to implement this order and eliminate the threat of illicit fentanyl and its core precursor chemicals to the United States. This includes the following actions:

(a) the Attorney General shall immediately pursue investigations and prosecutions into fentanyl trafficking, including through criminal charges as appropriate, sentencing enhancements, and sentencing variances;

(b) the Secretary of State and the Secretary of the Treasury shall pursue appropriate actions against relevant assets and financial institutions in accordance with applicable law for those involved in or supporting the manufacture, distribution, and sale of illicit fentanyl and its core precursor chemicals;

(c) the Secretary of War and the Attorney General shall determine whether the threats posed by illicit fentanyl and its impact on the United States warrant the provision of resources from the Department of War to the Department of Justice to aid in the enforcement of title 18 of the United States Code, as consistent with 10 U.S.C. 282;

(d) the Secretary of War, in consultation with the Secretary of Homeland Security, shall update all directives regarding the Armed Forces' response to chemical incidents in the homeland to include the threat of illicit fentanyl; and

(e) to ensure the United States uses the full array of appropriate counter-fentanyl tools, the Secretary of Homeland Security, as consistent with applicable law and in coordination with the heads of relevant agencies, as appropriate, shall identify threat networks related to fentanyl smuggling using WMD- and nonproliferation-related threat intelligence to support the full spectrum of counter-fentanyl operations.

Sec. 3. Definitions. (a) “Illicit fentanyl” means fentanyl that is manufactured, distributed, or dispensed, or possessed with intent to manufacture, distribute, or dispense in violation of section 401 and 406 of the Controlled Substances Act (21 U.S.C. 841, 846).

(b) “Core precursor chemicals” means the core chemicals that create illicit fentanyl and its analogues, such as Piperidone or other Piperidone-based substances.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

December 15, 2025.

[FR Doc. 2025-23417

Filed 12-17-25; 11:15 am]

Billing code 4410-CW-P